DEPARTMENT OF LABOR

Employment and Training Administration

[TA-W-75,252; TA-W-75,252A]

Amended Certification Regarding Eligibility To Apply for Worker Adjustment Assistance

TA-W-75,252

The Goodyear Tire and Rubber Company, North American Tire, Union City, TN

TA-W-75,252A

Leased Workers from the Hamilton-Ryker Group LLC, Securitas Security Services, Take Care Corporation, Conestoga Rovers and Associates, Phillips Engineering, Rockwell Engineering, Excel Logistics, and American Food and Vending, Calhoun Spotting Services, and Job World, Inc., Working On-Site at the Goodyear Tire and Rubber Company, North American Tire, Union City, TN

In accordance with Section 223 of the Trade Act of 1974, as amended (“Act”), 19 U.S.C. 2273, the Department of Labor issued a Certification of Eligibility to Apply for Worker Adjustment Assistance on April 6, 2011, applicable to the Goodyear Tire and Rubber Company, North American Tire Company, including on-site leased workers from the Hamilton-Ryker Group LLC, Securitas Security Services, Take Care Corporation, Conestoga Rovers and Associates, Phillips Engineering, Rockwell Engineering, Excel Logistics, and American Food and Vending. The workers produce passenger and light truck tires. The notice was published in the Federal Register on April 22, 2011 (76 FR 22731).

At the request of the Tennessee State agency, the Department reviewed the certification for workers of the subject firm. The company reports that workers leased from Calhoun Spotting Service and Job World, Inc. were employed on-site at the Union City, Tennessee location of The Goodyear Tire and Rubber Company. The Department has determined that these workers were sufficiently under the control of The Goodyear Tire and Rubber Company, Union City, Tennessee to be considered leased workers.

Based on these findings, the Department is amending this certification to include workers leased from Calhoun Spotting Service and Job World, Inc. working on-site at the Union City, Tennessee location of The Goodyear Tire and Rubber Company.

The amended notice applicable to TA-W-75,252 is hereby issued as follows:

All workers of The Goodyear Tire and Rubber Company, North American Tire, Union City, Tennessee (TA-W-75,252), who became totally or partially separated from employment on or after June 26, 2010, through April 6, 2013, and all workers in the group threatened with total or partial separation from employment on the date of certification through two years from the date of certification, are eligible to apply for adjustment assistance under Chapter 2 of Title II of the Trade Act of 1974, as amended.

The amended notice applicable to TA-W-75,252A is hereby issued as follows:

All leased workers from The Hamilton-Ryker Group LLC, Securitas Security Services, Take Care Corporation, Conestoga Rovers and Associates, Phillips Engineering, Rockwell Engineering, Excel Logistics, and American Food and Vending, Calhoun Spotting Service, and Job World, Inc. working on-site at The Goodyear Tire and Rubber Company, North American Tire, Union City, Tennessee (TA-W-75,252A), who became totally or partially separated from employment on or after February 10, 2010, through April 6, 2013, and all workers in the group threatened with total or partial separation from employment on April 6, 2011 through April 6, 2013, are eligible to apply for adjustment assistance under Chapter 2 of Title II of the Trade Act of 1974, as amended.

Signed in Washington, DC, this 29th day of July, 2011.
Michael W. Jaffe,
Certifying Officer, Office of Trade Adjustment Assistance.

[FR Doc. 2011-20521 Filed 8-11-11; 8:45 am]

BILLING CODE 4510-FN-P